SUSQUEHANNA RIVER BASIN COMMISSION

Notice of Projects Approved for Consumptive Uses of Water

AGENCY: Susquehanna River Basin Commission.

ACTION: Notice of Approved Projects.

SUMMARY: This notice lists the projects approved by rule by the Susquehanna River Basin Commission during the period set forth in DATES.

DATES: May 1, 2010 through May 31, 2010.

ADDRESSES: Susquehanna River Basin Commission, 1721 North Front Street, Harrisburg, PA 17102-2391.

FOR FURTHER INFORMATION CONTACT: Richard A. Cairo, General Counsel, telephone: (717) 238-0423, ext. 306; fax: (717) 238-2436; e-mail: rcairo@srbc.net or Stephanie L. Richardson, Secretary to the Commission, telephone: (717) 238-0423, ext. 304; fax: (717) 238-2436; e-mail: srichardson@srbc.net. Regular mail inquiries may be sent to the above address.

SUPPLEMENTARY INFORMATION: This notice lists the projects, described below, receiving approval for the consumptive use of water pursuant to the Commission's approval by rule process set forth in and 18 CFR 806.22(f) for the time period specified above:

Approvals by Rule Issued under 18 CFR 806.22(f)

1. East Resources, Inc., Pad ID: Johnson 434, ABR-20100501, Shippen Township, Tioga County, Pa.; Approval Date: May 3, 2010.

2. East Resources, Inc., Pad ID: Red Run Mountain 736, ABR-20100502, McIntyre Township, Lycoming County, Pa.; Approval Date: May 3, 2010.

3. East Resources, Inc., Pad ID: Newlin 476, ABR-20100503, Charleston Township, Tioga County, Pa.; Approval Date: May 3, 2010.

4. Stone Energy Corporation, Pad ID: Loomis Well No. 2H, ABR-20100504, Rush Township, Susquehanna County, Pa.; Approval Date: May 4, 2010.

5. Chief Oil & Gas, LLC, Pad ID: Flook Drilling Pad #1, ABR-20100505, Mifflin Township, Lycoming County, Pa.; Approval Date: May 5, 2010.

6. Chief Oil & Gas, LLC, Pad ID: Kerr Drilling Pad #1, ABR-20100506, Lathrop Township, Susquehanna County, Pa.; Approval Date: May 5, 2010.

7. Chesapeake Appalachia, LLC, Pad ID: Verex, ABR-20100507, Auburn Township, Susquehanna County, Pa.; Approval Date: May 6, 2010.

8. Chesapeake Appalachia, LLC, Pad ID: Pauliny, ABR-20100508, Terry Township, Bradford County, Pa.; Approval Date: May 6, 2010.

9. Chesapeake Appalachia, LLC, Pad ID: Coates, ABR-20100509, Standing Stone Township, Bradford County, Pa.; Approval Date: May 6, 2010.

10. Chesapeake Appalachia, LLC, Pad ID: Woodburn, ABR-20100510, Armenia Township, Bradford County, Pa.; Approval Date: May 6, 2010.

11. Chesapeake Appalachia, LLC, Pad ID: Jack, ABR-20100511, Windham Township, Wyoming County, Pa.; Approval Date: May 6, 2010.

12. EOG Resources, Inc., Pad ID: ROGERS 1H, ABR-20100512, Springfield Township, Bradford County, Pa.; Approval Date: May 10, 2010.

13. EXCO Resources (PA), Inc., Pad ID: Litke (Pad 2), ABR-20100513, Burnside Township, Centre County, Pa.; Approval Date: May 12, 2010, including a partial waiver of 18 CFR Section 806.15.

14. EXCO Resources (PA), Inc., Pad ID: Litke (Pad 3), ABR-20100514, Burnside Township, Centre County, Pa.; Approval Date: May 12, 2010, including a partial waiver of 18 CFR Section 806.15.

15. EXCO Resources (PA), Inc., Pad ID: Litke (Pad 5), ABR-20100515, Burnside Township, Centre County, Pa.; Approval Date: May 12, 2010, including a partial waiver of 18 CFR Section 806.15.

16. East Resources, Inc., Pad ID: Walker 438, ABR-20100516, Shippen Township, Tioga County, Pa.; Approval Date: May 12, 2010.

17. East Resources, Inc., Pad ID: Dandois 482, ABR-20100517, Sullivan Township, Tioga County, Pa.; Approval Date: May 12, 2010.

18. Cabot Oil & Gas Corporation, Pad ID: WarrinerR P2, ABR-20100518, Dimock Township, Susquehanna County, Pa.; Approval Date: May 13, 2010.

19. Cabot Oil & Gas Corporation, Pad ID: WarrinerR P5, ABR-20100519, Dimock Township, Susquehanna County, Pa.; Approval Date: May 13, 2010.

20. Cabot Oil & Gas Corporation, Pad ID: CarsonJ P1, ABR-20100520, Springville Township, Susquehanna County, Pa.; Approval Date: May 15, 2010.

21. Cabot Oil & Gas Corporation, Pad ID: HawleyW P1, ABR-20100521, Dimock Township, Susquehanna County, Pa.; Approval Date: May 15, 2010.

22. Talisman Energy USA, Inc., Pad ID: Gardiner 01 071, ABR-20100522, Troy Township, Bradford County, Pa.; Approval Date: May 15, 2010.

23. Talisman Energy USA, Inc., Pad ID: Vanblarcom 03 054, ABR-20100523, Columbia Township, Bradford County, Pa.; Approval Date: May 15, 2010.

24. Chesapeake Appalachia, LLC, Pad ID: Fred, ABR-20100524, Leroy Township, Bradford County, Pa.; Approval Date: May 15, 2010.

25. Chesapeake Appalachia, LLC, Pad ID: McConnell, ABR-20100525, Overton Township, Bradford County, Pa.; Approval Date: May 15, 2010.

26. Chesapeake Appalachia, LLC, Pad ID: Janet, ABR-20100526, Monroe Township, Bradford County, Pa.; Approval Date: May 15, 2010.

27. Chesapeake Appalachia, LLC, Pad ID: Treat, ABR-20100527, Rome Township, Bradford County, Pa.; Approval Date: May 15, 2010.

28. Chesapeake Appalachia, LLC, Pad ID: Morse, ABR-20100528, Leroy Township, Bradford County, Pa.; Approval Date: May 15, 2010.

29. Ultra Resources, Inc.; Pad ID: Patel 914, ABR-20100529, Abbott Township, Potter County, Pa.; Approval Date: May 17, 2010.

30. Anadarko E&P Company, LP, Pad ID: COP Tract 231 D, ABR-20100530, Snow Shoe Township, Centre County, Pa.; Approval Date: May 18, 2010, including a partial waiver of 18 CFR Section 806.15

31. EOG Resources, Inc., Pad ID: COP Pad A, ABR-20100531, Lawrence Township, Clearfield County, Pa.; Approval Date: May 18, 2010.

32. East Resources, Inc., Pad ID: Greenwood Hunting Lodge 427, ABR-20100532, McIntyre Township, Lycoming County, Pa.; Approval Date: May 18, 2010.

33. EOG Resources, Inc., Pad ID: PHC 28H/29H, ABR-20090918.1, Lawrence Township, Clearfield County, Pa.; Approval Date: May 19, 2010.

34. EOG Resources, Inc., Pad ID: PHC 4H, ABR-20090501.1, Lawrence Township, Clearfield County, Pa.; Approval Date: May 19, 2010.

35. EOG Resources, Inc., Pad ID: PHC 5H, ABR-20090502.1, Lawrence Township, Clearfield County, Pa.; Approval Date: May 19, 2010.

36. EOG Resources, Inc., Pad ID: PHC 6H, ABR-20090721.2, Lawrence Township, Clearfield County, Pa.; Approval Date: May 19, 2010.

37. XTO Energy Incorporated, Pad ID: Everbe Farms 8518H, ABR-20100533, Franklin Township, Lycoming County, Pa.; Approval Date: May 20, 2010.

38. Range Resources—Appalachia, LLC; Pad ID: Arrowhead Hunting Club Unit, ABR-20100534, Gallagher Township, Clinton County, Pa.; Approval Date: May 20, 2010.

39. Chesapeake Appalachia, LLC; Pad ID: Hayward New, ABR-20100535, Rome Township, Bradford County, Pa.; Approval Date: May 20, 2010.

40. Chesapeake Appalachia, LLC; Pad ID: Madden, ABR-20100536, Asylum Township, Bradford County, Pa.; Approval Date: May 21, 2010.

41. Chesapeake Appalachia, LLC; Pad ID: McGraw, ABR-20100537, Auburn Township, Susquehanna County, Pa.; Approval Date: May 21, 2010.

42. Chesapeake Appalachia, LLC; Pad ID: Cerca, ABR-20100538, Wyalusing Township, Bradford County, Pa.; Approval Date: May 21, 2010.

43. Chesapeake Appalachia, LLC; Pad ID: Rich, ABR-20100539, Troy Township, Bradford County, Pa.; Approval Date: May 21, 2010.

44. Chesapeake Appalachia, LLC; Pad ID: Flash, ABR-20100540, Rome Township, Bradford County, Pa.; Approval Date: May 21, 2010.

45. Anadarko E&P Company, LP, Pad ID: COP Tract 685 A, ABR-20100541, Cummings Township, Lycoming County, Pa.; Approval Date: May 24, 2010, including a partial waiver of 18 CFR Section 806.15.

46. Cabot Oil & Gas Corporation, Pad ID: RozellC P1, ABR-20100542, Jessup Township, Susquehanna County, Pa.; Approval Date: May 24, 2010.

47. Chesapeake Appalachia, LLC; Pad ID: Burkett, ABR-20100543, Smithfield Township, Bradford County, Pa.; Approval Date: May 25, 2010.

48. Chesapeake Appalachia, LLC; Pad ID: Matt Will Farms, ABR-20100544, Troy Township, Bradford County, Pa.; Approval Date: May 26, 2010.

49. Ultra Resources, Inc., Pad ID: Simonetti 817 (rev), ABR-20100545, Gaines Township, Tioga County, Pa.; Approval Date: May 26, 2010.

50. Chief Oil & Gas, LLC, Pad ID: Kitzmiller Drilling Pad #1, ABR-20100546, Jordan Township, Lycoming County, Pa.; Approval Date: May 27, 2010.

51. Chief Oil & Gas, LLC, Pad ID: Severcool Drilling Pad #1, ABR-20100547, Forkston Township, Wyoming County, Pa.; Approval Date: May 27, 2010.

52. Chief Oil & Gas, LLC, Pad ID: R & D Drilling Pad #1, ABR-20100548, Mehoopany Township, Wyoming County, Pa.; Approval Date: May 27, 2010.

53. Talisman Energy USA, Inc., Pad ID: Cole 03 016, ABR-20100549, Columbia Township, Bradford County, Pa.; Approval Date: May 27, 2010.

54. Cabot Oil & Gas Corporation, Pad ID: PettyJ P1, ABR-20100550, Dimock Township, Susquehanna County, Pa.; Approval Date: May 27, 2010.

55. EOG Resources, Inc., Pad ID: PHC Pad Q, ABR-20100551, Lawrence Township, Clearfield County, Pa.; Approval Date: May 27, 2010.

56. Talisman Energy USA, Inc., Pad ID: Wilber 03 065, ABR-20100552, Columbia Township, Bradford County, Pa.; Approval Date: May 27, 2010.

57. East Resources, Inc.; Pad ID: Breon 492, ABR-20100553, Sullivan Township, Tioga County, Pa.; Approval Date: May 28, 2010.

58. Range Resources—Appalachia, LLC; Pad ID: Harman, Lewis Unit #1H; ABR-20100554, Moreland Township, Lycoming County, Pa.; Approval Date: May 28, 2010.

59. EOG Resources, Inc., Pad ID: JBR PARTNERS 1V, ABR-20100555, Saint Marys City, Elk County, Pa.; Approval Date: May 28, 2010.

60. XTO Energy Incorporated, Pad ID: Tome 8522H, ABR-20100556, Moreland Township, Lycoming County, Pa.; Approval Date: May 28, 2010.

61. Chesapeake Appalachia, LLC; Pad ID: Kenyon, ABR-20100557, Overton Township, Bradford County, Pa.; Approval Date: May 28, 2010.

62. Chesapeake Appalachia, LLC; Pad ID: Feusner New, ABR-20100558, Litchfield Township, Bradford County, Pa.; Approval Date: May 28, 2010.

63. Ultra Resources, Inc.; Pad ID: Miksis 831, ABR-20100559; Gaines Township, Tioga County, Pa.; Approval Date: May 28, 2010.

64. Ultra Resources, Inc.; Pad ID: Coon Hollow 904, ABR-20100560; West Branch Township, Potter County, Pa.; Approval Date: May 28, 2010.

65. East Resources, Inc., Pad ID: Young 431, ABR-20100561, Shippen Township, Tioga County, Pa.; Approval Date: May 31, 2010.

Authority: Pub. L. 91-575, 84 Stat. 1509 et seq., 18 CFR Parts 806, 807, and 808.

Dated: June 22, 2010.
Stephanie L. Richardson,
Secretary to the Commission.

[FR Doc. 2010-16122 Filed 7-1-10; 8:45 am]

BILLING CODE 7040-01-P